FEDERAL RETIREMENT THRIFT INVESTMENT BOARD

Employee Thrift Advisory Council; Open Meeting

In accordance with section 10(a)(2) of the Federal Advisory Committee Act (Pub. L. 92-463), a notice is hereby given of the following committee meeting:

NAME: Employee Thrift Advisory Council.

TIME: 10 a.m.

DATE: June 27, 2000.

PLACE: 4th Floor, Conference Room, Federal Retirement Thrift Investment Board, 1250 H Street, NW., Washington, DC

STATUS: Open.

MATTERS TO BE CONSIDERED:

1. Approve minutes of the May 19, 1999, meeting.

2. Report of the Executive Director on Thrift Savings Plan status.

3. November 15, 1999-January 31, 2000, Thrift Savings Plan Open Season.

4. Legislation.

5. New TSP record keeping system/investment funds.

6. New Business.

Any interested person may attend, appear before, or file statements with the Council. For further information contact Elizabeth S. Woodruff, Committee Management Officer, on (202) 942-1660.

Dated: June 6, 2000.
Elizabeth S. Woodruff,
General Counsel, Federal Retirement Thrift Investment Board.

[FR Doc. 00-14739 Filed 6-9-00; 8:45 am]

BILLING CODE 6760-01-M